DEPARTMENT OF VETERANS AFFAIRS

Joint Biomedical Laboratory Research and Development and Clinical Science Research and Development Services Scientific Merit Review Board; Notice of Meetings; Amendment

The Department of Veterans Affairs (VA) gives notice under the Federal Advisory Committee Act, 5 U.S.C. App., that the date and/or location changes have been made for the following panel meetings of the of the Joint Biomedical Laboratory Research and Development and Clinical Science Research and Development Services Scientific Merit Review Board as previously announced in the Federal Register on April 16, 2013. The panels will meet from 8 a.m. to 5 p.m.

Gastroenterology will meet on May 30, 2013, at the U.S. Access Board and not on May 30-31, 2013;

Pulmonary Medicine will meet on May 30, 2013, at the Sheraton Crystal City Hotel and not on May 30-31, 2013;

Neurobiology-E will meet on June 4, 2013, at the Sheraton Crystal City Hotel, and not via a teleconference meeting at the VA Central Office;

Endocrinology-B will meet on June 5, 2013, at the Sheraton Crystal City Hotel and not on June 4, 2013; and

Neurobiology-F will conduct a teleconference meeting on June 12, 2013, at VA Central Office which was not previously reported.

The addresses of the meeting sites are:

Sheraton Crystal City Hotel, 1800 Jefferson Davis Highway, Arlington, VA

U.S. Access Board, 1331 F Street NW., Suite 1000, Washington, DC

VA Central Office, 131 M Street NE., Washington, DC

The purpose of the Board is to provide advice on the scientific quality, budget, safety and mission relevance of investigator-initiated research proposals submitted for VA merit review consideration. Proposals submitted for review by the Board involve a wide range of medical specialties within the general areas of biomedical, behavioral and clinical science research.

The panel meetings will be open to the public for approximately one-half hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with title 5 U.S.C., 552b(c) (6) and (9)(B).

Those who plan to attend the general session or would like to obtain a copy of the minutes from the panel meetings and rosters of the members of the panels should contact Alex Chiu, Ph.D., Manager, Merit Review Program (10P9B), Department of Veterans Affairs, 810 Vermont Avenue NW., Washington, DC 20420, at (202) 443-5672 or email at alex.chiu@va.gov.

By Direction of the Secretary.
Dated: May 8, 2013.
Vivian Drake,
Committee Management Officer.

[FR Doc. 2013-11328 Filed 5-13-13; 8:45 am]

BILLING CODE P